DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, MD 20857; (301) 443-6593, or visit our website at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the table) set forth at 42 CFR 100.3. This table lists for each covered childhood vaccine the conditions that may lead to compensation and, for each condition, the time period for occurrence of the first symptom or manifestation of onset or of significant aggravation after vaccine administration. Compensation may also be awarded for conditions not listed in the table and for conditions that are manifested outside the time periods specified in the table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on April 1, 2018, through April 30, 2018. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the table but which was caused by a vaccine” referred to in the table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the program.

Dated: May 22, 2018.
George Sigounas,
Administrator.

List of Petitions Filed

1. David McKairnes, Blue Bell, Pennsylvania, Court of Federal Claims No: 18-0477V

2. Daniel J. Holding, Rochester, New York, Court of Federal Claims No: 18-0478V

3. Deborah Ann Burnaroos, Ellensburg, Washington, Court of Federal Claims No: 18-0479V

4. Henry Gauvin, Jewett City, Connecticut, Court of Federal Claims No: 18-0480V

5. Bette M. Meyer on behalf of Donald D. Meyer, Deceased, Elk River, Minnesota, Court of Federal Claims No: 18-0484V

6. Jayne Stockton, Gold Beach, Oregon, Court of Federal Claims No: 18-0485V

7. Vivien Lee, Frisco, Texas, Court of Federal Claims No: 18-0486V

8. Flo Rutherford, Sellersville, Pennsylvania, Court of Federal Claims No: 18-0487V

9. Jessica Woodbeck and Michael Bias on behalf of H. H. W., Deceased, Antioch, California, Court of Federal Claims No: 18-0488V

10. Amy Garza, Lubbock, Texas, Court of Federal Claims No: 18-0489V

11. Andru Garrett, Kansas City, Missouri, Court of Federal Claims No: 18-0490V

12. Robert Thrasher and Emily Thrasher on behalf of L. T., North Tonawanda, New York, Court of Federal Claims No: 18-0493V

13. Anjanette Welch, Albany, New York, Court of Federal Claims No: 18-0494V

14. Beth Raiter, Hinckley, Ohio, Court of Federal Claims No: 18-0495V

15. Gary Giannantonio on behalf of C. G., Ocean City, New Jersey, Court of Federal Claims No: 18-0497V

16. Lili Gitt, Shrewsbury, New Jersey, Court of Federal Claims No: 18-0499V

17. Sarah Bass, Clermont, Florida, Court of Federal Claims No: 18-0501V

18. Matthew Davies and Joan Davies on behalf of B. D., Livingston, New Jersey, Court of Federal Claims No: 18-0502V

19. Michael Montagnino, Clermont, Florida, Court of Federal Claims No: 18-0505V

20. To Bich Ngoc, Garden Grove, California, Court of Federal Claims No: 18-0506V

21. Ashley Ball on behalf of P. L., Elkhart, Indiana, Court of Federal Claims No: 18-0508V

22. Ann Galloway, Tupelo, Mississippi, Court of Federal Claims No: 18-0510V

23. Victoria Ditsche, Sewell, New Jersey, Court of Federal Claims No: 18-0511V

24. Amanda Jo Kilgus, Nashville, Tennessee, Court of Federal Claims No: 18-0513V

25. Glenda Russell, Bakersfield, California, Court of Federal Claims No: 18-0515V

26. Sheryl Giordano, Allenstown, New Hampshire, Court of Federal Claims No: 18-0517V

27. Janice Shelly, Elizabethtown, Pennsylvania, Court of Federal Claims No: 18-0519V

28. Joseph H. Robinson, Jackson, Mississippi, Court of Federal Claims No: 18-0521V

29. Veronica Defeo on behalf of L. D., Jupiter, Florida, Court of Federal Claims No: 18-0524V

30. Jessica Miskell, Ann Arbor, Michigan, Court of Federal Claims No: 18-0526V

31. Michael Joseph Deutsch, Cary, North Carolina, Court of Federal Claims No: 18-0527V

32. Allison Weathington, Douglasville, Georgia, Court of Federal Claims No: 18-0530V

33. Melinda Gibbons, Palm Desert, California, Court of Federal Claims No: 18-0531V

34. George L. Hodgdon, Beverly, Massachusetts, Court of Federal Claims No: 18-0533V

35. Alexandra Murray, Tallahassee, Florida, Court of Federal Claims No: 18-0534V

36. Kiara S. Massey, Fayetteville, North Carolina, Court of Federal Claims No: 18-0541V

37. Lori Celuch, Kingston, New York, Court of Federal Claims No: 18-0544V

38. Blanche Boyd, Tazewell, Virginia, Court of Federal Claims No: 18-0546V

39. Laura Steele, New York, New York, Court of Federal Claims No: 18-0547V

40. Dina Brifman, Palm Coast, Florida, Court of Federal Claims No: 18-0550V

41. Claire Rutz, Toms River, New Jersey, Court of Federal Claims No: 18-0551V

42. Michael Rutz, Toms River, New Jersey, Court of Federal Claims No: 18-0552V

43. Alejandra Idone, Aventura, Florida, Court of Federal Claims No: 18-0553V

44. Scott Robertson, Gainesville, Florida, Court of Federal Claims No: 18-0554V

45. Anthony Abels, Farmington Hills, Michigan, Court of Federal Claims No: 18-0558V

46. Wanda Rodgers, Grand Prairie, Texas, Court of Federal Claims No: 18-0559V

47. Randall Puckett, Beckley, West Virginia, Court of Federal Claims No: 18-0564V

48. Frank Schwentker, Chicago, Illinois, Court of Federal Claims No: 18-0565V

49. Debra Brackeen, Desoto, Texas, Court of Federal Claims No: 18-0566V

50. Becky Eedy, West Branch, Michigan, Court of Federal Claims No: 18-0572V

51. Janet Holland, Flemington, New Jersey, Court of Federal Claims No: 18-0574V

52. Donna A. Osso, Bronx, New York, Court of Federal Claims No: 18-0575V

53. Howard Dunn, Jenks, Oklahoma, Court of Federal Claims No: 18-0576V

54. Laura M. Forcella Spiering, Cody, Wyoming, Court of Federal Claims No: 18-0577V

55. Sharen Kraft, Clarksville, Tennessee, Court of Federal Claims No: 18-0579V

56. Heath Bender, Ridgefield, Connecticut, Court of Federal Claims No: 18-0580V

57. Glenda C. Vaughters, McLeansville, North Carolina, Court of Federal Claims No: 18-0581V

58. Scott Celuch, Kingston, New York, Court of Federal Claims No: 18-0582V

59. Michele Mikaelian, Milford, Connecticut, Court of Federal Claims No: 18-0583V

60. Robert O'Leary, M.D., Patchogue, New York, Court of Federal Claims No: 18-0584V

61. Oksana Motuzyuk on behalf of A. R. K., Chicago, Illinois, Court of Federal Claims No: 18-0586V

62. Breeann Miller on behalf of A. M., Farmington, New Mexico, Court of Federal Claims No: 18-0587V

63. Wilma Perry, Albertville, Alabama, Court of Federal Claims No: 18-0588V

64. Patricia Merson, Rosedale, Maryland, Court of Federal Claims No: 18-0589V

65. Lindsey Hanson on behalf of L. R. N., Mankato, Minnesota, Court of Federal Claims No: 18-0590V

66. Brenda Baughman, Englewood, New Jersey, Court of Federal Claims No: 18-0591V

67. Richard L. White, Wellesley Hills, Massachusetts, Court of Federal Claims No: 18-0592V

68. Caron Stapleton, San Francisco, California, Court of Federal Claims No: 18-0595V

69. Emily Moss and Ryan Moss on behalf of M. M., Bradenton, Florida, Court of Federal Claims No: 18-0600V

70. Sule Soysal, Kissimmee, Florida, Court of Federal Claims No: 18-0601V

71. James A. Parker, Fitchburg, Wisconsin, Court of Federal Claims No: 18-0602V

72. Pauline Anita Gunnarson, North Bend, Indiana, Court of Federal Claims No: 18-0603V

73. Jill Kroesen, La Quinta, California, Court of Federal Claims No: 18-0604V

74. Dee Ann Quantie, Phoenix, Arizona, Court of Federal Claims No: 18-0610V

75. Robert Fuerstenau, Monticello, Florida, Court of Federal Claims No: 18-0611V

[FR Doc. 2018-11360 Filed 5-25-18; 8:45 am]

BILLING CODE 4165-15-P